DEPARTMENT OF COMMERCE

National Oceanic and Atmospheric Administration

Agency Information Collection Activities; Submission to the Office of Management and Budget (OMB) for Review and Approval; Comment Request; Applications and Reports for Scientific Research and Enhancement Permits Under the Endangered Species Act

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on December 18, 2024 during a 60-day comment period. This notice allows for an additional 30 days for public comments.

Agency: National Oceanic & Atmospheric Administration (NOAA), Commerce.

Title: Applications and Reports for Scientific Research and Enhancement Permits Under the Endangered Species Act.

OMB Control Number: 0648-0402.

Form Number(s): None.

Type of Request: Regular submission (extension of a currently approved collection).

Number of Respondents: 175 per year.

Average Hours per Response: 12 hours for permit applications; 6 hours for permit modification requests; 2 hours for annual reports.

Total Annual Burden Hours: 810 hours.

Needs and Uses: This is a request for renewal of an approved information collection. The Endangered Species Act of 1973 (ESA; 16 U.S.C. 1531 et seq.) imposes prohibitions against the taking of threatened and endangered species. Section 10 of the ESA allows permits authorizing the taking of such species for research and enhancement purposes. The corresponding regulations established procedures for persons to apply for such permits. In addition, the regulations set forth specific reporting requirements for such permit holders. The regulations thus require two sets of information collections: (1) Applications for research/enhancement permits, and (2) prescribed reports for such permits once they are issued.

The required information is used to evaluate the impacts that research and enhancement activities have on endangered species, to make the determinations required by the ESA before issuing any such permit, and to establish appropriate permit conditions. To issue permits under ESA section 10(a)(1)(A), the National Marine Fisheries Service (NMFS) must determine that (1) such exceptions were applied for in good faith, (2) if granted and exercised, will not operate to the disadvantage of such endangered species, and (3) will be consistent with the purposes and policy set forth in Section 2 of the ESA. This collection is not being revised in any way.

Affected Public: Federal government; State, local, or tribal governments; business or other for-profit organizations, educational institutions.

Frequency: Annually.

Respondent's Obligation: Required to Obtain or Retain Benefits.

Legal Authority: The Endangered Species Act of 1973 (16 U.S.C. 1531 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0402.

Sheleen Dumas,
Departmental PRA Compliance Officer, Office of the Under Secretary for Economic Affairs, Commerce Department.

[FR Doc. 2025-09083 Filed 5-20-25; 8:45 am]

BILLING CODE 3510-22-P